DEPARTMENT OF ENERGY

Bonneville Power Administration

Santiam-Bethel Transmission Line Project

AGENCY: Bonneville Power Administration (BPA), Department of Energy (DOE).

ACTION: Notice of floodplain and wetlands involvement.

SUMMARY: This notice announces BPA's proposal to rebuild a 17-mile portion of the Santiam-Chemawa single-circuit 230-kilovolt (kV) line as a double-circuit 230-kV line in the existing right-of-way in floodplains and wetlands located in Marion and Linn Counties, Oregon. The purpose of the project is to prevent overloads on the Santiam-Chemawa 230-kV line. In accordance with DOE regulations for compliance with floodplain and wetlands environmental review requirements, BPA will prepare a floodplain and wetlands assessment and will perform this proposed action in a manner so as to avoid or minimize potential harm to or within the affected floodplain and wetlands. The assessment will be included in the environmental assessment being prepared for the proposed project in accordance with the requirements of the National Environmental Policy Act. A floodplain statement of findings will be included in any finding of no significant impact that may be issued following the completion of the environmental assessment.

DATES: Comments are due to the address below no later than May 29, 2001.

ADDRESSES: Submit comments to Communications, Bonneville Power Administration—KC-7, P.O. Box 12999, Portland, Oregon, 97212. Internet address: comment@bpa.gov.

FOR FURTHER INFORMATION CONTACT: Leslie Kelleher, Bonneville Power Administration—KEC-4, P.O. Box 3621, Portland, Oregon, 97208-3621; telephone number 503-230-7692; fax number 503-230-5699.

SUPPLEMENTARY INFORMATION: The BPA Santiam-Bethel transmission line rebuild would cross the 100-year floodplain of North Santiam River (T9S, R1E, Section 22) and a tributary to the Pudding River (T7S, R2W, Section 25); a total of 14 wetlands were identified within the cleared right-of-way.

Maps and further information are available from BPA at the address above.

Issued in Portland, Oregon, on May 4, 2001.
Thomas C. McKinney,
NEPA Compliance Officer.

[FR Doc. 01-11926 Filed 5-10-01; 8:45 am]

BILLING CODE 6450-01-U